DEPARTMENT OF ENERGY

Federal Energy Regulatory Commission

[Docket No. RP97-344-014]

Texas Gas Transmission Corporation; Notice of Proposed Changes in FERC Gas Tariff

February 2, 2000.

Take notice that on January 27, 2000 Texas Gas Transmission Corporation (Texas Gas) tendered for filing, as part of its FERC Gas Tariff, First Revised Volume No. 1, the following revised tariff sheets:

Thirty-third Revised Sheet No. 10

Sixteenth Revised Sheet No. 10A

Twenty-ninth Revised Sheet No. 11

Twenty-first Revised Sheet No. 11A

Seventeenth Revised Sheet No. 11B

Thirty-first Revised Sheet No. 12

Tenth Revised Sheet No. 12A

Eleventh Revised Sheet No. 15

Twelfth Revised Sheet No. 16

Eleventh Revised Sheet No. 17

Texas Gas states that this filing is made to implement the provisions of Article XI, Section 1(a), of the Offer of Settlement and Explanatory Statement in Docket No. RP97-344, et al., and, as presented in the referenced Appendix D, page 2, of said Settlement, Texas Gas, in the instant filing, proposes to reflect the unit rate reductions, effective March 1, 2000, resulting from the termination of the ANR X-153 contract. The attached tariff sheets reflect reductions to the NNS and FT demand rates of ($0.0025), NNS and FT commodity rates of ($0.0009), SGT rates of ($0.0059), and IT rates of ($0.0034).

Texas Gas states that copies of this filing have been served upon all of Texas Gas's jurisdiction customers, all parties on the Commission's official service list in this proceeding, interested state commissions, and the FERC Staff.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-2786 Filed 2-7-00; 8:45 am]

BILLING CODE 6717-01-M